DEPARTMENT OF THE INTERIOR

Bureau of Land Management

[LLAZ9120000.L12200000.AL00006100.241A]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on December 9, 2009, at the BLM Arizona State Office located at One North Central Avenue, Suite 800 in downtown Phoenix, from 8 a.m. until 4:30 p.m. Morning agenda items include: BLM State Director's update on statewide issues; update on BLM's Four-Tracks to Solar Energy Development in Arizona; update on BLM Scoping Process and Comments on the Development of the Environmental Impact Statement (EIS) on the Proposed Withdrawal of Mining in the Arizona Strip District; RAC questions on BLM District Managers' Reports; and reports by RAC working groups. A public comment period will be provided at 11:30 a.m. on December 9, 2009, for any interested publics who wish to address the Council on BLM programs and business.

Under the Federal Lands Recreation Enhancement Act, the RAC has been designated as the Recreation Resource Advisory Council (RRAC), and has the authority to review all BLM and Forest Service (FS) recreation fee proposals in Arizona. The afternoon meeting agenda on December 9 will include review and discussion of the Recreation Enhancement Act (REA) Working Group Report, REA Working Group meeting schedule and future BLM/FS recreation fee proposals. The RRAC will not review any recreation fee proposals at this meeting.

DATES: Effective Date: December 9, 2009.

FOR FURTHER INFORMATION CONTACT: Deborah Stevens, Bureau of Land Management, Arizona State Office, One North Central Avenue, Suite 800, Phoenix, Arizona 85004-4427, 602-417-9504.

Joanie Losacco,
Acting Arizona State Director.

[FR Doc. E9-27145 Filed 11-10-09; 8:45 am]

BILLING CODE 4310-32-P